DEPARTMENT OF ENERGY

Agency Information Collection Activities: Submission for OMB Review; Comment Request

AGENCY: Office of Electricity Delivery and Energy Reliability (OE), U.S. Department of Energy (DOE).

ACTION: Notice and Request for OMB Review and Comment.

SUMMARY: The Office of Electricity Delivery and Energy Reliability has submitted the form OE-417 “Electric Emergency Incident and Disturbance Report” to the Office of Management and Budget (OMB) for review and a three-year extension under the provisions of the Paperwork Reduction Act of 1995. The OE-417 is used to report electric emergency incidents and disturbances to the DOE. The Form OE- 417 reports will enable the DOE to monitor electric emergency incidents and disturbances in the United States (including all 50 States, the District of Columbia, Puerto Rico, U.S. Virgin Islands, and the U.S. Territories) so that the Government may help prevent the physical or virtual disruption of the operation of any critical infrastructure.

DATES: Comments regarding this collection must be received on or before December 29, 2011. If you anticipate that you will be submitting comments, but find it difficult to do so within the period of time allowed by this notice, please advise the OMB Desk Officer of your intention to make a submission as soon as possible. The Desk Officer may be telephoned at (202) 395-4650.

ADDRESSES: Written comments should be sent to the:

DOE Desk Officer, Office of Information and Regulatory Affairs, Office of Management and Budget, New Executive Office Building, Room 1012, 735 17th Street, NW., Washington, DC 20503, (202) 395-4650.

And to:

Brian Copeland, Office of Electricity Delivery and Energy Reliability (Attn: Comments on OE-417 Electric Emergency Incident and Disturbance Report), OE-30, Forrestal Building, U.S. Department of Energy, Washington, DC 20585, Brian.Copeland@hq.doe.gov, (202) 586-1178.

FOR FURTHER INFORMATION CONTACT: Requests for additional information or copies of the information collection instrument and instructions should be directed to Brian Copeland.

SUPPLEMENTARY INFORMATION: This information collection request contains: (1) OMB No. 1901-0288; (2) Information Collection Request Title: Electric Emergency Incident and Disturbance Report; (3) Type of Review: Revision and three-year extension; (4) Purpose: Form OE-417 collects information on electric emergency incidents and disturbances for DOE's use in fulfilling its overall national security and other energy management responsibilities. The information will also be used by DOE for analytical purposes. All electric utilities, including those that operate Control Area Operator functions and Reliability Authority functions, will be required to supply information when an incident or disturbance meets a reporting threshold. Since the pre-survey consultation notice was published, Federal Register notice 76 FR 35867, in line 11, the boxes entitled “Physical” and “Cyber” have been changed to “Physical Attack” and “Cyber Event.”; (5) Annual Estimated Number of Respondents: 3.276; (6) Annual Estimated Number of Total Responses: 300; (7) Annual Estimated Number of Burden Hours: 7,227; (8) Annual Estimated Reporting and Recordkeeping Cost Burden: 0.

Statutory Authority: Section 13 of the Federal Energy Administration Act of 1974, codified at 15 U.S.C. 772.

Issued in Washington, DC.
Patricia A. Hoffman,
Assistant Secretary of Energy, Office of Electricity Delivery and Energy Reliability.

[FR Doc. 2011-30640 Filed 11-28-11; 8:45 am]

BILLING CODE 6450-01-P